DEPARTMENT OF COMMERCE

National Oceanic and Atmospheric Administration

RIN 0648-XE228

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee (RSC) to consider actions affecting New England fisheries in the exclusive economic zone (EEZ). Recommendations from this group will be brought to the full Council for formal consideration and action, if appropriate.

DATES: This meeting will be held on Thursday October 22, 2015 at 9:30 a.m.

ADDRESSES: The meeting will be held at the Holiday Inn, 700 Myles Standish Boulevard, Taunton, MA 02780; telephone: (508) 823-0490; fax: (508) 880-6483.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Research Steering Committee will meet to review several cooperative research projects, which include Scallop RSA projects that address gray meats in the scallop fishery. The RSC may also review other cooperative research projects, which may include a 2012 Monkfish RSA project. In addition, the Research Steering Committee may discuss the outcome of the Cooperative Research & Cooperative Management Review White Paper. The Research Steering Committee may also discuss other topics at the meeting as it pertains to cooperative research. Other business may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 30, 2015.
Tracey L. Thompson,
Acting Deputy Director, Office of Sustainable Fisheries, National Marine Fisheries Service.

[FR Doc. 2015-25241 Filed 10-2-15; 8:45 am]

BILLING CODE 3510-22-P